DEPARTMENT OF HEALTH AND HUMAN SERVICES

Substance Abuse and Mental Health Services Administration

Agency Information Collection Activities: Proposed Collection; Comment Request

In compliance with section 3506(c)(2)(A) of the Paperwork Reduction Act of 1995 concerning opportunity for public comment on proposed collections of information, the Substance Abuse and Mental Health Services Administration will publish periodic summaries of proposed projects. To request more information on the proposed projects or to obtain a copy of the information collection plans, call the SAMHSA Reports Clearance Officer on (301) 443-7978.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: National Suicide Prevention Lifeline—Call Log and Crisis Center Survey—NEW

The Substance Abuse and Mental Health Services Administration's (SAMHSA), Center for Mental Health Services has funded a National Suicide Prevention Lifeline Network, consisting of a single toll-free telephone number that routes calls from anywhere in the United States to a network of local crisis centers. In turn, the local centers link callers to local emergency, mental health, and social service resources.

Through its grantee which is administering the National Suicide Prevention Lifeline Network, SAMHSA developed a Call Log and Crisis Center Survey in an effort to monitor basic trends in calls received and to learn more about the capacities, skills, and unmet needs of the crisis centers involved in the Network. The completed Call Logs and Surveys will inform the Network's planning around network recruitment strategies, technology, training, marketing, and other network resource development activities. The goal of these efforts is to enhance services provided by networked crisis centers, increase their accessibility to people at risk for suicidal behavior, and optimize public health efforts to prevent suicide and suicidal behavior.

All 104 networked crisis centers will be invited to complete the Call Logs, which will be available in both Web-based and hardcopy formats. Trained crisis counselors will use their judgment as to whether to complete the form at the conclusion of individual calls. Completing the form entails asking callers several basic questions (e.g., zip code, age, how they heard about the Lifeline service). No identifiable information will be collected.

The Web-based Crisis Center Survey, which will be administered only one time, requests information about crisis centers' infrastructure and services. The Survey includes questions about organizational structure, scope of services, telephone technology and equipment, staffing, training, and quality assurance.

The estimated annual response burden to collect this information is as follows:

Instrument | Number of respondents | Responses/ respondent | Burden/response (hours) | Annual burden (hours)
National Suicide Prevention Lifeline—Call Log | 250 | 4 | .03 | 30
National Suicide Prevention Lifeline: Crisis Center Survey | 104 | 1 | .33 | 34
Total | 354 |  |  | 64

Send comments to Summer King, SAMHSA Reports Clearance Officer, Room 7-1045, 1 Choke Cherry Road, Rockville, MD 20850. Written comments should be received by July 5, 2005.

Dated: April 29, 2005.
Anna Marsh,
Executive Officer, SAMHSA.

[FR Doc. 05-9060 Filed 5-5-05; 8:45 am]

BILLING CODE 4162-20-P